DEPARTMENT OF HEALTH AND HUMAN SERVICES

National Institutes of Health

The National Institutes of Health (NIH) Scientific Workshop on Violence & Related Health Outcomes in Sexual & Gender Minority Communities Open Session

AGENCY: National Institutes of Health, HHS.

ACTION: Notice.

SUMMARY: The National Institutes of Health (NIH) will hold the Phase IV open session for the NIH Scientific Workshop on Violence and Related Health Outcomes in Sexual and Gender Minority (SGM) Communities to enhance our understanding of violence against SGM individuals and identify opportunities in violence-related research. The primary objectives of NIH's Phase IV meeting are: (1) To allow the public to participate, and (2) to further refine research opportunities.

DATES: The NIH Scientific Workshop on Violence and Related Health Outcomes in Sexual and Gender Minority Communities Phase IV virtual meeting will be held on Thursday, August 26, 2021, from 12:00-4:00 p.m. Eastern Daylight Time (New York, GMT).

ADDRESSES: The meeting will be held virtually via WebEx.

The preliminary agenda and registration are available at https://tinyurl.com/SGMwkshp.

FOR FURTHER INFORMATION CONTACT: Irene Avila, Ph.D., Assistant Director, Sexual & Gender Minority Research Office (SGMRO), avilai@mail.nih.gov, 301-594-9701.

SUPPLEMENTARY INFORMATION:

Background: “Sexual and gender minority” is an umbrella term that includes, but is not limited to, individuals who identify as lesbian, gay, bisexual, asexual, transgender, Two-Spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex.

In accordance with Section 404N of the 21st Century Cures Act (Pub. L. 114-255), the Director of NIH shall encourage research on SGM populations. The Sexual and Gender Minority Research Office (SGMRO) coordinates SGM-related research and activities by working directly with NIH Institutes, Centers, and Offices. The Office was officially established in September 2015 within the Division of Program Coordination, Planning, and Strategic Initiatives (DPCPSI) in the NIH Office of the Director and has the following operational goals: (1) Advance rigorous research on the health of SGM populations in both the extramural and intramural research communities; (2) expand SGM health research by fostering partnerships and collaborations with a strategic array of internal and external stakeholders; (3) foster a highly skilled and diverse workforce in SGM health research; and (4) encourage data collection related to SGM populations in research and the biomedical research workforce. The Scientific Workshop on Violence and Related Health Outcomes in Sexual and Gender Minority Communities represents an important step in pursuing these goals specifically in the field of violence research.

The NIH Scientific Workshop on Violence and Related Health Outcomes in Sexual and Gender Minority Communities Phase IV Public Meeting Details

The NIH Scientific Workshop on Violence and Related Health Outcomes in Sexual and Gender Minority Communities invites stakeholders throughout the scientific research community, clinical practice communities, patient and family advocates, scientific or professional organizations, federal partners, internal NIH stakeholders, and other interested members of the public to participate and provide comments, questions, or feedback at the workshop. The goal of the meeting is to identify opportunities in violence-related research. Public input will serve as a valuable element in the development of the final proposed research opportunities.

This notice serves as the announcement for the fourth and final phase of the Scientific Workshop on Violence and Related Health Outcomes in Sexual and Gender Minority Communities. Phase I was the Request for Information (RFI) https://www.federalregister.gov/documents/2020/11/25/2020-26094/request-for-information-on-research-opportunities-related-to-the-national-institutes-of-health published in November 2020. The summary of the comments received can be found on the https://dpcpsi.nih.gov/sgmro website. Phase II was a session on the state of the science for violence research affecting SGM communities (a recording will be available after August 26, 2021). The meeting applied an ecological model focusing on family of origin abuse across the lifespan, victimization by peers and friends, romantic and sexual partner violence, and community violence. Phase III included working groups to identify and describe research opportunities to further understand the role of violence in the health of SGM individuals. The working groups were comprised of these five domains:

• Demographics and Epidemiology

• Risk Factors and Pathways

• Preventive Interventions

• Treatment-focused Interventions

• Ethics and Logistical Challenges

Phase IV will involve moderated discussions with the presenters from the Phase III working groups to refine research opportunities needed to further our understanding of violence in SGM communities. Audience feedback, comments, and questions during this session will help further refine the proposed research opportunities.

Dated: July 21, 2021.
Lawrence A. Tabak,
Principal Deputy Director, National Institutes of Health.

[FR Doc. 2021-16190 Filed 7-28-21; 8:45 am]

BILLING CODE 4140-01-P